OFFICE OF SCIENCE AND TECHNOLOGY POLICY

Request for Input on the United States Group on Earth Observations Draft Common Framework for Earth-Observation Data

ACTION: Notice of Request for Information (RFI).

SUMMARY: The U.S. Group on Earth Observations (USGEO), a Subcommittee of the National Science and Technology Council (NSTC) Committee on Environment, Natural Resources, and Sustainability (CENRS), requests comment on the draft Common Framework for Earth-observation data (referred to in this document as “the Common Framework”). The draft Common Framework will be posted at https://www.whitehouse.gov/administration/eop/ostp/library/shareyourinput. Comments of approximately five pages or less in length (up to 20,000 characters) are requested and must be received by 8 p.m. (Eastern Standard Time), January 15, 2016 to be considered. The public input provided in response to this Notice will inform USGEO as it works to develop the Common Framework.

DATES: Responses must be received by 8 p.m. (Eastern Standard Time), January 15, 2016 to be considered.

ADDRESSES: You may submit comments by any of the following methods:

• On-line form: To aid in information collection and analysis, the Office of Science and Technology Policy (OSTP) encourages responses to be provided by filling out the on-line form located at https://www.whitehouse.gov/administration/eop/ostp/library/shareyourinput.

• Fax: (202) 456-6071. On the cover page, please state “Draft Common Framework for Earth Observation Data, attn: Timothy Stryker”.

• Mail: Office of Science and Technology Policy, 1650 Pennsylvania Avenue NW., Washington, DC, 20504, attn: Timothy Stryker. Information submitted by postal mail should be postmarked by January 15, 2016.

Response to this RFI is voluntary. Respondents need not reply to all questions listed; however, they should clearly identify the questions to which they are responding by listing the corresponding number for each question. Each individual or institution is requested to submit only one response. OSTP may post responses to this RFI without change, online, at www.usgeo.gov. OSTP therefore requests that no business proprietary information, copyrighted information, or personally identifiable information be submitted in response to this RFI. Please note that the U.S. Government will not pay for response preparation, or for the use of any information contained in the response.

FOR FURTHER INFORMATION CONTACT: Timothy Stryker, Director, U.S. Group on Earth Observations Program, 202-419-3471, tstryker@ostp.eop.gov, OSTP.

SUPPLEMENTARY INFORMATION: On behalf of USGEO, OSTP is seeking public comment on a draft Common Framework for data scientists, users of Earth-observation data, and others, both inside and outside the government.

The Common Framework originated as the “Big Earth Data Initiative (BEDI) Common Framework” to provide guidance to agencies on what standards and protocols to use when managing data under the OMB/OSTP Big Earth Data Initiative. In the course of BEDI implementation, USGEO data-management practitioners identified a set of effective practices for managing Earth-observation data that had value beyond BEDI and would be a useful resource for many data managers in the Federal government. The Common Framework encourages standard protocols for finding, accessing, and using Earth-observation data. USGEO agencies expect the Common Framework will make it easier to obtain and assemble data from diverse sources for improved analysis, understanding, decision-making, community resilience, and commercial uses. To ensure that a recommended set of shared standards across agencies results in greater discovery, access, and use of data, OSTP is seeking public comment on the Common Framework, which may be accessed at https://www.whitehouse.gov/administration/eop/ostp/library/shareyourinput.

OSTP seeks comment from the public on the following questions:

1. How would adoption of this set of recommended standards by Federal agencies affect your discovery, access, and use of government Earth-observation data and data catalogs, if at all?

2. Do you agree that Common Framework-recommended standards are current, appropriate, and valuable practices for civil Earth observation agencies within the Federal Government? Why or why not?

3. Do you wish to share specific examples of how the use of Common Framework-recommended standards have aided or hindered the use of government Earth-observation data or the development of products such as data portals, visualizations, or decision-support tools?

Ted Wackler,
Deputy Chief of Staff and Assistant Director; OSTP.

[FR Doc. 2015-30929 Filed 12-8-15; 8:45 am]

BILLING CODE 3270-F6-P